ENVIRONMENTAL PROTECTION AGENCY

40 CFR Part 52

[EPA-R05-OAR-2014-0274; FRL-9912-57-Region 5]

Approval and Promulgation of Air Quality Implementation Plans; Illinois; Revision to the Chicago 8-Hour Ozone Maintenance Plan

AGENCY: Environmental Protection Agency (EPA).

ACTION: Withdrawal of direct final rule.

SUMMARY: Due to the receipt of an adverse comment, EPA is withdrawing the May 22, 2014, direct final rule approving a revision to the Illinois State Implementation Plan (SIP). EPA will address the comment in a subsequent final action based upon the proposed rulemaking action, also published on May 22, 2014. EPA will not institute a second comment period on this action.

DATES: The direct final rule published at 79 FR 29324 on May 22, 2014, is withdrawn effective June 26, 2014.

FOR FURTHER INFORMATION CONTACT: Michael Leslie, Environmental Engineer, Control Strategies Section, Air Programs Branch (AR-18J), Environmental Protection Agency, Region 5, 77 West Jackson Boulevard, Chicago, Illinois 60604, (312) 353-6680, leslie.michael@epa.gov.

SUPPLEMENTARY INFORMATION: EPA is withdrawing the May 22, 2014 (79 FR 29324), direct final rule approving a revision to the 1997 8-hour ozone maintenance plan for the Illinois portion of the Chicago-Gary-Lake County, Illinois-Indiana area. In the direct final rule, EPA stated that if adverse comments were received by June 23, 2014, the rule would be withdrawn and not take effect. On May 26, 2014, EPA received a comment, which it interprets as adverse and, therefore, EPA is withdrawing the direct final rule. EPA will address the comment in a subsequent final action based upon the proposed rulemaking action, also published on May 22, 2014 (79 FR 29395). EPA will not institute a second comment period on this action.

List of Subjects in 40 CFR Part 52

Environmental protection, Air pollution control, Incorporation by reference, Oxides of nitrogen, Ozone, Volatile organic compounds.

Authority: 42 U.S.C. 7401 et seq.

Dated: June 10, 2014.
Susan Hedman,
Regional Administrator, Region 5.

PART 52—APPROVAL AND PROMULGATION OF IMPLEMENTATION PLANS

Accordingly, the amendment to 40 CFR 52.726 published in the Federal Register on May 22, 2014 (79 FR 29324) on page 29327 is withdrawn effective June 26, 2014.

[FR Doc. 2014-14868 Filed 6-25-14; 8:45 am]

BILLING CODE 6560-50-P